DEPARTMENT OF COMMERCE

International Trade Administration

[C-533-896]

Common Alloy Aluminum Sheet From India: Final Results of Countervailing Duty Administrative Review; 2022

AGENCY: Enforcement and Compliance, International Trade Administration, Department of Commerce.

SUMMARY: The U.S. Department of Commerce (Commerce) determines that Hindalco Industries Limited (Hindalco) and Manaksia Aluminium Company Limited (MALCO), received countervailable subsidies during the period of review (POR), January 1, 2022, through December 31, 2022.

DATES: Applicable November 13, 2024.

FOR FURTHER INFORMATION CONTACT: Samuel Evans or Elizabeth Beuley, AD/CVD Operations, Office IX, Enforcement and Compliance, International Trade Administration, U.S. Department of Commerce, 1401 Constitution Avenue NW, Washington, DC 20230; telephone: (202) 482-2420 or (202) 282-3269, respectively.

SUPPLEMENTARY INFORMATION:

Background

On May 2, 2024, Commerce published the Preliminary Results of this administrative review in the Federal Register and invited interested parties to comment.¹ On July 22, 2024, Commerce tolled certain deadlines in this administrative proceeding by seven days.² On August 7, 2024, Commerce extended the deadline for issuing the final results.³ The deadline for the final results is now November 5, 2024. For a complete description of the events that occurred since the publication of the Preliminary Results, see the Issues and Decision Memorandum.⁴

¹ See Common Alloy Aluminum Sheet from India: Preliminary Results and Partial Rescission of Countervailing Duty Administrative Review; 2022, 89 FR 35788 (May 2, 2024) (Preliminary Results), and accompanying Preliminary Decision Memorandum (PDM).

² See Memorandum, “Tolling of Deadlines for Antidumping and Countervailing Duty Proceedings,” dated July 22, 2024.

³ See Memorandum, “Extension of Deadline for Final Results of Countervailing Duty Administrative Review,” dated August 7, 2024.

⁴ See Memorandum, “Issues and Decision Memorandum for the Final Results of the Countervailing Duty Administrative Review of Common Alloy Aluminum Sheet from India; 2022,” dated concurrently with, and hereby adopted by, this notice (Issues and Decision Memorandum).

Scope of the Order ⁵

⁵ See Common Alloy Aluminum Sheet from Bahrain, India, and the Republic of Turkey: Countervailing Duty Orders, 86 FR 22144 (April 27, 2021) (Order).

The merchandise covered by this Order is common alloy aluminum sheet from India. For a complete description of the scope of this Order, see the Issues and Decision Memorandum.

Analysis of Comments Received

All issues raised by the interested parties in their case and rebuttal briefs are addressed in the Issues and Decision Memorandum. A list of topics discussed in the Issues and Decision Memorandum is provided in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on our analysis of comments from interested parties and the results of verification, we made certain changes to Hindalco's and MALCO's countervailable subsidy rate calculations from the Preliminary Results. For a full description of these changes, see the Issues and Decision Memorandum.⁶

⁶ For a full description of these revisions, see the Issues and Decision Memorandum.

Methodology

Commerce conducted this administrative review in accordance with section 751(a)(1)(A) of the Tariff Act of 1930, as amended (the Act). For each of the subsidy programs found countervailable, we find that there is a subsidy, i.e., a government-provided financial contribution that gives rise to a benefit to the recipient, and that the subsidy is specific.⁷ For a full description of the methodology underlying all of Commerce's conclusions, see the Issues and Decision Memorandum.

⁷ See sections 771(5)(B) and (D) of the Act regarding financial contribution; section 771(5)(E) of the Act regarding benefit; and section 771(5A) of the Act regarding specificity.

Company Not Selected for Individual Review

The Act and Commerce's regulations do not address the establishment of a rate to be applied to companies not selected for individual examination when Commerce limits its examination in an administrative review, pursuant to section 777A(c)(2) of the Act. Generally, Commerce looks to section 705(c)(5) of the Act, which provides instructions for determining the all-others rate in an investigation, for guidance when calculating the rate for companies which were not selected for individual examination in an administrative review. Under section 705(c)(5)(A) of the Act, the all-others rate is normally an amount equal to the weighted average of the countervailable subsidy rates established for exporters and producers individually investigated, excluding any zero or de minimis countervailable subsidy rates, and any rates determined entirely on the basis of facts available.

Accordingly, to determine the rate for Virgo Aluminum Limited (Virgo), the company not selected for individual examination in this review, because the rates calculated for Hindalco and MALCO were above de minimis and not based entirely on facts available, we are assigning Virgo a weighted average of the subsidy rates calculated for Hindalco and MALCO using each company's public ranged data for the value of its exports of subject merchandise to the United States.⁸

⁸ See Memorandum, “Calculation of Rate for Company Not Selected for Individual Examination,” dated concurrently with this notice.

Final Results of Review

As a result of this review, Commerce determines the following net countervailable subsidy rates exist for the period January 1, 2022, through December 31, 2022:

Company | Subsidy rate (percent ad valorem)
Hindalco Industries Limited ⁹ | 41.46
Manaksia Aluminium Company Limited | 1.72
Virgo Aluminum Limited | 3.59

Disclosure

Commerce intends to disclose the calculations performed for these final results within five days of any public announcement or, if there is no public announcement, within five days of the date of publication of this notice in the Federal Register, in accordance with 19 CFR 351.224(b).

⁹ As discussed in the Preliminary Results PDM, Commerce found the following companies to be cross-owned with Hindalco: Minerals & Minerals Limited and Utkal Alumina International Limited. For these final results, we continue to find these companies to be cross-owned with Hindalco.

Assessment Rates

Pursuant to section 751(a)(2)(C) of the Act and 19 CFR 351.212(b)(2), Commerce has determined, and U.S. Customs and Border Protection (CBP) shall assess, countervailing duties on all appropriate entries of subject merchandise covered by this review. Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

In accordance with section 751(a)(1) of the Act, Commerce also intends to instruct CBP to collect cash deposits of estimated countervailing duties in the amounts shown for each of the companies listed above for shipments of the subject merchandise which entered, or were withdrawn from warehouse for consumption on or after the date of publication of the final results of this administrative review. For all non-reviewed firms, we will instruct CBP to continue to collect cash deposits of estimated countervailing duties at the all-others rate or most recent company-specific rate applicable to the company, as appropriate. These cash deposit requirements, when imposed, shall remain in effect until further notice.

Administrative Protective Order

This notice also serves as the final reminder to parties subject to an administrative protective order (APO) of their responsibility concerning the destruction of proprietary information disclosed under APO in accordance with 19 CFR 351.305(a)(3). Timely written notification of the return or destruction of APO materials or conversion to judicial protective order is hereby requested. Failure to comply with the regulations and terms of an APO is a sanctionable violation.

Notification to Interested Parties

We are issuing and publishing these final results in accordance with sections 751(a)(1) and 777(i)(1) of the Act, and 19 CFR 351.221(b)(5).

Dated: November 5, 2024.
Abdelali Elouaradia,
Deputy Assistant Secretary for Enforcement and Compliance.

Appendix

List of Topics Discusses in the Issues and Decision Memorandum

I. Summary

II. Background

III. Scope of the Order

IV. Subsidies Valuation

V. Analysis of Programs

VI. Discussion of the Issues

Comment 1: Whether to Modify the Benefit Calculation for the Remission of Duties and Taxes on Export Products (RODTEP) Program for MALCO

Comment 2: Whether the Provision of Coal for Less Than Adequate Remuneration (LTAR) Program is Specific

Comment 3: Whether the Selection of the Coal Benchmark is Appropriate

Comment 4: Whether Commerce's Financial Contribution Analysis for the Provision of Bauxite Mining Rights for LTAR Program is Appropriate

Comment 5: Whether the Provision of Bauxite Mining Rights for LTAR Program is Specific

Comment 6: Whether the Selection of the Bauxite Benchmark is Appropriate

Comment 7: Whether to Change the Calculation of the Social Welfare Surcharge in the Calculation of the Bauxite Benchmark

Comment 8: Whether to Include a Profit Rate in the Calculation of the Benefit for the Provision of Bauxite Mining Rights for LTAR Program

Comment 9: Whether the Selection of the Ocean Freight Benchmark for the Provision of Coal for LTAR and the Provision of Bauxite Mining Rights for LTAR Programs is Appropriate

VII. Recommendation

[FR Doc. 2024-26220 Filed 11-12-24; 8:45 am]

BILLING CODE 3510-DS-P